DEPARTMENT OF ENERGY

Federal Energy Regulatory Commission

[Docket No. CP99-94-003]

Florida Gas Transmission Company; Notice of Intent to Prepare an Environmental Assessment for the Proposed Modified Tampa South Lateral Extension and Request for Comments on Environmental Issues

December 4, 2000.

The staff of the Federal Energy Regulatory Commission (FERC or Commission) will prepare an environmental assessment (EA) that will discuss the environmental impacts of the proposed modified route of the Tampa South Lateral Extension (TSLE) involving construction and operation of facilities by Florida Gas Transmission Company (FGT) in Hillsborough County, Florida.¹ Specifically FGT proposes to modify its certificate in Docket No. CP99-94-000. The proposed facilities would consist of about 6.2 miles of 6- and 8-inch-diameter pipeline. This EA will be used by the Commission in its decision-making process to determine whether the proposed modified route for TSLE is preferable to the certificated route.

¹ FGT's application was filed with the Commission under Section 7 of the Natural Gas Act and Part 157 of the Commission's regulations.

If you are a landowner receiving this notice, you may be contacted by a pipeline company representative about the acquisition of an easement to construct, operate and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the FGT project notice provided to landowners. This fact sheet addresses a number of typically asked questions, including the use of eminent domain and how to participate in the Commission's proceedings. It is available for viewing on the FERC Internet website (www.ferc.fed.us).

Summary of the Proposed Project

FGT wants to modify the route and pipe size of the TSLE as previously certificated by the Commission on February 28, 2000 which authorized the construction and operation of FGT's Phase IV Expansion Project. FGT seeks to change the route of the TSLE, which includes a change in the pipeline length from about 5.62 miles to 6.18 miles to transport additional natural gas to a local distribution company. Specifically FGT proposes to construct and operate:

• About 6.0 miles of 6-inch-diameter pipeline in Hillsborough County, Florida;

• About 0.2 miles of 8-inch-diameter pipeline in Hillsborough County, Florida; and

• Change the location of the National Gypsum Regulatory Station to milepost 5.97 on the modified TSLE route.

The location of the project facilities is shown in appendix 1.²

² The appendices referenced in this notice are not being printed in the Federal Register. Copies are available on the Commission's website at the “RIMS” link or from the Commission's Public Reference and Files Maintenance Branch, 888 First Street, N.E., Washington, D.C. 20426, or call (202) 208-1371. For instructions on connecting to RIMS refer to the last page of this notice. Copies of the appendices were sent to all those receiving this notice in the mail.

Land Requirements for Construction

Construction of the proposed facilities would require about 39.9 acres of land. Following construction, about 8.3 acres would be maintained as permanent right-of-way for operational use. The remaining 31.6 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands,

• Vegetation and wildlife

• Endangered and threatened species

• Land use

• Cultural resources

• Hazardous waste

• Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 4.

Currently Identified Environmental Issues

We have already identified several issues that we think deserve attention based on a preliminary review of the proposed facilities and the environmental information provided by FGT. This preliminary list of issues may be changed based on your comments and our analysis.

• A total of 0.02 linear mile of proposed facilities would be within residential areas.

• The proposed project would require two major waterbody crossings greater than 100 feet in width (Alafia River and Bullfrog Creek).

• A comparison of the proposed route, the certificated route, and other route alternative that may be reasonable.

Public Participation and Scoping Meeting

You can make a difference by providing us with your specific comments or concerns about the project. By becoming a commentor, your concerns will be addressed in the EAa and considered by the Commission. You should focus on the potential environmental effects of the proposal, alternatives to the proposal, and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas Group 2.

• Reference Docket No. CP99-94-003.

• Mail your comments so that they will be received in Washington, DC on or before January 3, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

In addition to or in lieu of sending written comments, we invite you to attend the public scoping meeting the FERCc will conduct in the project area. The location and time for the meeting is listed below.

Date and Time: December 19, 2000 7 p.m.

Location: Gardenville Recreation Center, 6215 Symmes Road, Gibsonton, Florida 33534.

The public meetings are designed to provide you with more detailed information and another opportunity to offer your comments on the proposed project. Interested groups and individuals are encouraged to attend the meeting and to present comments on the environmental issues they believe should be addressed in the EA. A transcript of the meeting will be made so that your comments will be accurately recorded.

On the date of the meeting, our staff will also be visiting project area. Anyone interested in participating in a site visit may contact the Commission's Office of External Affairs identified at the end of appendix 1 of this notice for more details and must provide their own transportation.

Becoming an Intervenor

In addition to involvement in the EA scoping process, you may want to became an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (http://www.ferc.fed.us) using the “RIMS” link to information in this docket number. Click on the “RIMS” link, select “Docket #” from the RIMS Menu, and follow the instructions. For assistance with access to RIMS, the RIMS helpline can be reached at (202)) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-31280 Filed 12-7-00; 8:45 am]

BILLING CODE 6717-01-M